DEPARTMENT OF AGRICULTURE

Animal and Plant Health Inspection Service

[Docket No. APHIS-2020-0109]

Notice of Request for Approval of an Information Collection; SARS-CoV-2 Testing in Animals Reporting Activities

ACTION: New information collection; comment request.

SUMMARY: In accordance with the Paperwork Reduction Act of 1995, this notice announces the Animal and Plant Health Inspection Service's intention to request approval of a new information collection associated with the testing and reporting of SARS-CoV-2 in animals.

DATES: We will consider all comments that we receive on or before March 5, 2021.

ADDRESSES: You may submit comments by either of the following methods:

• Federal eRulemaking Portal: Go to http://www.regulations.gov/#!docketDetail;D=APHIS-2020-0109.

• Postal Mail/Commercial Delivery: Send your comment to Docket No. APHIS-2020-0109, Regulatory Analysis and Development, PPD, APHIS, Station 3A-03.8, 4700 River Road, Unit 118, Riverdale, MD 20737-1238.

Supporting documents and any comments we receive on this docket may be viewed at http://www.regulations.gov/#!docketDetail;D=APHIS-2020-0109 or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on testing and reporting of SARS-CoV-2 in animals, contact Dr. Laura Miles, Veterinarian Epidemiologist, Surveillance, Design, and Analysis Section, Center for Epidemiology and Animal Health, Veterinary Services, 2150 Centre Ave., Bldg. B, Fort Collins, CO 80526; (970) 494-7246; NLRAD.NAHRS@usda.gov. For additional information about the information collection process, contact Mr. Joseph Moxey, APHIS' Information Collection Coordinator, at (301) 851-2483.

SUPPLEMENTARY INFORMATION:

Title: SARS-CoV-2 Testing in Animals Reporting Activities.

OMB Control Number: 0579-XXXX.

Type of Request: Approval of a new information collection.

Abstract: The Animal Health Protection Act (AHPA) of 2002 is the primary Federal law governing the protection of animal health. The AHPA gives the Secretary of Agriculture broad authority to detect, control, or eradicate pests or diseases of agricultural animals and animal products. The Secretary may also prohibit or restrict import or export of any animal or related material if necessary, to prevent the spread of any disease. The U.S. Department of Agriculture has a duty under section 8219 of the Public Health Security and Bioterrorism Preparedness and Response Act of 2002 to collaborate and coordinate with the Department of Health and Human Services partners in the surveillance of zoonoses disease. Collection and dissemination of animal and poultry health data and information is mandated by 7 U.S.C. 391, the Animal Industry Act of 1884, which established the Bureau of Animal Industry, which was the precursor of the Animal and Plant Health Inspection Service's (APHIS') Veterinary Services. Legal requirements for examining and reporting on animal disease control methods were further mandated by 21 U.S.C. 119, “Agents to Examine and Report on Methods of Treatment of Animals, and Means for Suppression of Diseases,” amended February 7, 1928.

Collection, analysis, and dissemination of animal and poultry health information is consistent with the APHIS mission of protecting and improving American agriculture's productivity and competitiveness. APHIS uses the National Animal Health Reporting System (NAHRS) for reporting and tracking the emergence, prevalence, epidemiology, and economic importance of diseases in livestock, poultry, and other animals. The system facilitates standardization of disease information throughout the United States, provides a central point for the collection of national data, and assists APHIS in meeting its animal disease reporting obligations to the World Organization for Animal Health (OIE).

To better meet its reporting requirements about emerging diseases to the OIE, APHIS is interested in collecting information as to the detection of severe acute respiratory syndrome coronavirus 2 (SARS-CoV-2) in animals. To accomplish this, APHIS will distribute a request for information to U.S. laboratories engaged in the testing of animals for SARS-CoV-2, develop a questionnaire in NAHRS, and request that State animal health officials and U.S. laboratories provide SARS-CoV-2 animal testing data on a monthly basis.

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.72 hours per response.

Respondents: State animal scientists, U.S. laboratory personnel, and veterinarians.

Estimated annual number of respondents: 77.

Estimated annual number of responses per respondent: 12.

Estimated annual number of responses: 949.

Estimated total annual burden on respondents: 1,626 hours. (Due to averaging, the total annual burden hours may not equal the product of the annual number of responses multiplied by the reporting burden per response.)

All responses to this notice will be summarized and included in the request for OMB approval. All comments will also become a matter of public record.

Done in Washington, DC.
Michael Watson,
Acting Administrator, Animal and Plant Health Inspection Service.

[FR Doc. 2020-29014 Filed 12-31-20; 8:45 am]

BILLING CODE 3410-34-P